DEPARTMENT OF TRANSPORTATION

Federal Highway Administration

Environmental Impact Statement: Interstate 81 Viaduct Project (Onondaga County, New York)

AGENCY: Federal Highway Administration (FHWA), United States Department of Transportation (USDOT).

ACTION: Notice of intent.

SUMMARY: FHWA, as lead agency, is issuing this notice to advise the public that an Environmental Impact Statement (EIS) will be prepared for the proposed infrastructure improvements of Interstate 81 (I-81) in the greater Syracuse area, Onondaga County, New York.

FOR FURTHER INFORMATION CONTACT: Debra Nelson, New York State Department of Transportation, 50 Wolf Road, Albany, New York 12232, Telephone: (518) 457-7256; or Jonathan McDade, New York Division Administrator, Federal Highway Administration, Leo W. O'Brien Federal Building, 7th Floor, Room 719, Clinton Avenue and North Pearl Street, Albany, New York 12207, Telephone: (518) 431-4127.

SUPPLEMENTARY INFORMATION: The FHWA, in cooperation with the New York State Department of Transportation (NYSDOT), will prepare an Environmental Impact Statement (EIS) in accordance with the National Environmental Policy Act (NEPA) on a proposal to correct deficiencies with the I-81 viaduct in the City of Syracuse, Onondaga County, New York while taking into consideration opportunities for addressing community concerns related to this portion of I-81.

In its current condition, the I-81 viaduct is in a deteriorating state of repair and does not meet current design standards. The purpose of the project is to address these structural deficiencies and nonstandard highway features while creating an improved corridor through the City of Syracuse that meets transportation needs and provides the transportation infrastructure to support long-range planning efforts.

To address these issues, the EIS will evaluate alternatives that meet the goals of improving safety and creating an efficient regional and local transportation system within and through greater Syracuse; and providing transportation solutions that enhance the livability, sustainability, and economic vitality of greater Syracuse.

Alternatives under consideration include the no-build alternative; rehabilitation or reconstruction of the existing highway infrastructure; conversion of the existing highway to an alternative non-interstate highway facility (e.g., at-grade roadway); and replacement of existing infrastructure with a below-grade facility (e.g., highway tunnel, or depressed highway) The NEPA documentation will consider this list of alternatives and evaluations conducted to date as well as any other reasonable and prudent alternatives identified during scoping. The EIS will consider all reasonable alternatives that meet the project purpose and need and are considered feasible based on engineering, cost, and social, economic, and environmental considerations.

Letters describing the project, alternatives under consideration, and opportunities for agency and public involvement in the process will be sent to the appropriate Cooperating and Participating Agencies and to private organizations and citizens that have expressed an interest in this action. The public and agencies will be offered an opportunity to comment on the Purpose and Need, range of alternatives, level of detail, methodologies, etc. This will be accomplished through public and agency outreach which will consist of: A formal public scoping meeting to be held in Syracuse, New York in November 2013; a series of public/stakeholder meetings; a public hearing; meetings with the applicable Cooperating and Participating Agencies; and meeting with the Section 106 Consulting Parties including federally recognized Indian tribes. The Draft EIS will also be available for public and agency review and comment. FHWA and NYSDOT will provide public notification of the time and location of the meetings and hearings.

The meetings will be accessible to persons with disabilities. If special services, such as an interpreter or sign language services, are needed, please contact Debra Nelson, New York State Department of Transportation.

To ensure that a full range of issues related to this proposed action are addressed and all significant issues are identified, comments and suggestions are invited from all interested parties. Comments or questions concerning this proposed action and the EIS should be directed to the FHWA or NYSDOT at the addresses provided above.

(Catalog of Federal Domestic Assistance Program Number 20.205, Highway Planning and Construction. The regulations implementing Executive Order 12372 regarding intergovernmental consultation on Federal programs and activities apply to this program.)

Issued on: August 20, 2013.
Jonathan D. McDade,
Division Administrator, New York Division, Federal Highway Administration.

[FR Doc. 2013-20727 Filed 8-23-13; 8:45 am]

BILLING CODE 4910-22-P